DEPARTMENT OF DEFENSE

Department of the Army; Army Corps of Engineers

Notice of Intent To Prepare a Joint Environmental Impact Statement and Environmental Impact Report for Berryessa Creek, Santa Clara County, CA

AGENCY: Army Corps of Engineers, DoD.

ACTION: Notice of intent.

SUMMARY: The action being taken is a General Reevaluation Report to (1) address potential improvements for the existing flood management systems, (2) investigate additional areas of flood damage reduction for Berryessa Creek, (3) evaluate methods to reduce sediment deposition in the downstream region, (4) improve recreation, and (5) integrate ecosystem restoration. The Berryessa Creek watershed is located in Santa Clara County, California, south of San Francisco Bay. Berryessa Creek is a tributary to Coyote Creek, which flows into the southern end of San Francisco Bay. The watershed is about 22 square miles in area and drains portions of the Diablo Range on the east side of the Santa Clara Valley. This study focuses on approximately 4.5 miles of Berryessa Creek.

FOR FURTHER INFORMATION CONTACT: Questions about the proposed action and EIS/EIR should be addressed to Liz Holland at (916) 557-6763 or by mail to U.S. Army Corps of Engineers, ATTN CESPK-PD-R, 1325 J Street, Sacramento, California 95814-2922.

SUPPLEMENTARY INFORMATION:

1. Proposed Action

The U.S. Army Corps of Engineers and the Santa Clara Valley Water District are conducting a study on Berryessa Creek, which will result in a General Reevaluation Report. The study will focus on ways to improve flood damage reduction, reduce sediment load, restore the ecosystem, and add recreation opportunities. County population centers include the cities of Milpitas and San Jose.

2. Alternatives

The General Reevaluation Report will address an array of alternatives. Alternatives analyzed during the reevaluation investigation will be a combination of one or more flood damage reduction and ecosystem restoration measures. These measures include levee work, floodwalls, off-line flood and sediment storage basins, vegetation plantings along the creek, and culvert improvements and replacements.

3. Scoping Process

a. The project study plan provides for a public scoping meeting to present information to the public and to receive information from the public. The Corps has initiated a process to involve concerned individuals, and local, State, and Federal agencies.

b. Significant issues to be analyzed in depth in the EIS/EIR include appropriate levels of flood damage reduction; adverse effects on vegetation and wildlife resources, special-status species, esthetics, cultural resources, recreation, land use, fisheries, water quality, air quality, transportation, and socioeconomics, and cumulative effects of related projects in the study area.

c. The Corps will consult with the State Historic Preservation Officer to comply with the National Historic Preservation Act, and the U.S. Fish and Wildlife Service to provide a Fish and Wildlife Coordination Act Report as an appendix to the EIS/EIR.

d. A 45-day public review period will be provided for individuals and agencies to review and comment on the draft EIS/EIR. All interested parties are encouraged to respond to this notice and provide a current address if they wish to be notified of the EIS/EIR circulation.

4. Availability

The draft EIS/EIR is scheduled to be available for public review and comment late in calendar year 2004.

Luz D. Ortiz,
Army Federal Register Liaison Officer.

[FR Doc. 01-25772 Filed 10-12-01; 8:45 am]

BILLING CODE 3710-EZ-M